DEPARTMENT OF ENERGY

Federal Energy Regulatory Commission

Combined Notice of Filings #1

Take notice that the Commission received the following exempt wholesale generator filings:

Docket Numbers: EG24-155-000.

Applicants: Cedar Springs Wind IV, LLC.

Description: Cedar Springs Wind IV, LLC submits Notice of Self-Certification of Exempt Wholesale Generator Status.

Filed Date: 3/29/24.

Accession Number: 20240329-5311.

Comment Date: 5 p.m. ET 4/19/24.

Docket Numbers: EG24-156-000.

Applicants: Anticline Wind, LLC.

Description: Anticline Wind, LLC submits Notice of Self-Certification of Exempt Wholesale Generator Status.

Filed Date: 3/29/24.

Accession Number: 20240329-5316.

Comment Date: 5 p.m. ET 4/19/24.

Take notice that the Commission received the following electric rate filings:

Docket Numbers: ER10-1586-010; ER10-1630-010.

Applicants: Wolf Hills Energy, LLC, Big Sandy Peaker Plant, LLC.

Description: Response to March 1, 2024 Deficiency Letter of Big Sandy Peaker Plant, LLC.

Filed Date: 3/28/24.

Accession Number: 20240328-5352.

Comment Date: 5 p.m. ET 4/18/24.

Docket Numbers: ER23-2359-006.

Applicants: PJM Interconnection, L.L.C.

Description: Tariff Amendment: Amendment to ISA/CSA SA Nos. 6967 & 6968; AD2-100/131—Docket ER23-2359 to be effective 9/6/2023.

Filed Date: 3/29/24.

Accession Number: 20240329-5117.

Comment Date: 5 p.m. ET 4/19/24.

Docket Numbers: ER24-1270-000.

Applicants: Prescott Wind Energy LLC.

Description: Supplement to February 16, 2024 Prescott Wind Energy LLC tariff filing.

Filed Date: 3/27/24.

Accession Number: 20240327-5316.

Comment Date: 5 p.m. ET 4/10/24.

Docket Numbers: ER24-1638-000.

Applicants: Midcontinent Independent System Operator, Inc.

Description: 205(d) Rate Filing: 2024-03-28_Resource Accreditation Reform to be effective 9/1/2024.

Filed Date: 3/28/24.

Accession Number: 20240328-5329.

Comment Date: 5 p.m. ET 4/29/24.

Docket Numbers: ER24-1639-000.

Applicants: ITC Midwest LLC.

Description: 205(d) Rate Filing: Amended and Restated Joint Use Pole Agreement with Corn Belt (RS I90) to be effective 5/28/2024.

Filed Date: 3/28/24.

Accession Number: 20240328-5338.

Comment Date: 5 p.m. ET 4/18/24.

Docket Numbers: ER24-1640-000.

Applicants: Public Service Company of New Mexico.

Description: Annual Filing of Post-Employment Benefits Other than Pensions for 2024 of Public Service Company of New Mexico.

Filed Date: 3/28/24.

Accession Number: 20240328-5345.

Comment Date: 5 p.m. ET 4/18/24.

Docket Numbers: ER24-1641-000.

Applicants: Fuse Energy NY LLC.

Description: Baseline eTariff Filing: Application for Market Based Rate Authority to be effective 5/27/2024.

Filed Date: 3/28/24.

Accession Number: 20240328-5344.

Comment Date: 5 p.m. ET 4/18/24.

Docket Numbers: ER24-1642-000.

Applicants: Hecate Grid Swiftsure, LLC.

Description: Hecate Grid Swiftsure, LLC requests a one-time limited waiver of the New York Independent System Operator, Inc.'s Open Access Transmission Tariff to allow Hecate to extend the proposed commercial operation date.

Filed Date: 3/28/24.

Accession Number: 20240328-5381.

Comment Date: 5 p.m. ET 4/18/24.

Docket Numbers: ER24-1643-000.

Applicants: American Transmission Systems, Incorporated, PJM Interconnection, L.L.C.

Description: 205(d) Rate Filing: American Transmission Systems, Incorporated submits tariff filing per 35.13(a)(2)(iii: ATSI, Inc. submits OHTCo & ATSI IA SA No. 6936 to be effective 5/29/2024.

Filed Date: 3/29/24.

Accession Number: 20240329-5070.

Comment Date: 5 p.m. ET 4/19/24.

Docket Numbers: ER24-1644-000.

Applicants: New York Independent System Operator, Inc., Niagara Mohawk Power Corporation.

Description: 205(d) Rate Filing: New York Independent System Operator, Inc. submits tariff filing per 35.13(a)(2)(iii: NYISO-NMPC Joint 205: Amnd LGIA for East Point Solar SA2683 to be effective 3/15/2024.

Filed Date: 3/29/24.

Accession Number: 20240329-5095.

Comment Date: 5 p.m. ET 4/19/24.

Docket Numbers: ER24-1645-000.

Applicants: Idaho Power Company.

Description: 205(d) Rate Filing: SA #414—NITSA Between Idaho Power Company and PacifiCorp to be effective 6/1/2024.

Filed Date: 3/29/24.

Accession Number: 20240329-5101.

Comment Date: 5 p.m. ET 4/19/24.

Docket Numbers: ER24-1646-000.

Applicants: Mississippi Power Company.

Description: Tariff Amendment: Notice of Termination of Gulf States TFA to be effective 5/31/2024.

Filed Date: 3/29/24.

Accession Number: 20240329-5105.

Comment Date: 5 p.m. ET 4/19/24.

Docket Numbers: ER24-1647-000.

Applicants: PJM Interconnection, L.L.C.

Description: 205(d) Rate Filing: Amendment to ISA, SA No. 6667; Queue No. AE1-157 (amend) to be effective 5/29/2024.

Filed Date: 3/29/24.

Accession Number: 20240329-5107.

Comment Date: 5 p.m. ET 4/19/24.

Docket Numbers: ER24-1648-000.

Applicants: Louisville Gas and Electric Company.

Description: 205(d) Rate Filing: Mill Creek 5 Provisional Large Generator Interconnection Agreement to be effective 3/7/2024.

Filed Date: 3/29/24.

Accession Number: 20240329-5139.

Comment Date: 5 p.m. ET 4/19/24.

Docket Numbers: ER24-1649-000.

Applicants: PECO Energy Company, PJM Interconnection, L.L.C.

Description: 205(d) Rate Filing: PECO Energy Company submits tariff filing per 35.13(a)(2)(iii: PECO submits revisions to OATT Att. H-7A Depreciation Rates to be effective 5/29/2024.

Filed Date: 3/29/24.

Accession Number: 20240329-5158.

Comment Date: 5 p.m. ET 4/19/24.

Docket Numbers: ER24-1650-000.

Applicants: New England Power Pool Participants Committee.

Description: 205(d) Rate Filing: Apr 2024 Membership Filing to be effective 3/1/2024.

Filed Date: 3/29/24.

Accession Number: 20240329-5194.

Comment Date: 5 p.m. ET 4/19/24.

Docket Numbers: ER24-1651-000.

Applicants: Renew Home VPP, LLC.

Description: Baseline eTariff Filing: Baseline new to be effective 3/30/2024.

Filed Date: 3/29/24.

Accession Number: 20240329-5230.

Comment Date: 5 p.m.ET 4/19/24.

Docket Numbers: ER24-1652-000.

Applicants: Mississippi Power Company.

Description: 205(d) Rate Filing: MRA 31 Rate Case Filing to be effective 5/29/2024.

Filed Date: 3/29/24.

Accession Number: 20240329-5248.

Comment Date: 5 p.m. ET 4/19/24.

Docket Numbers: ER24-1653-000.

Applicants: MRP Pacifica Marketing LLC.

Description: Baseline eTariff Filing: Baseline new to be effective 5/29/2024.

Filed Date: 3/29/24.

Accession Number: 20240329-5270.

Comment Date: 5 p.m. ET 4/19/24.

Docket Numbers: ER24-1654-000.

Applicants: Georgia Power Company.

Description: Initial rate filing: SR Metter Affected System Construction Agreement Filing to be effective 6/22/2023.

Filed Date: 3/29/24.

Accession Number: 20240329-5273.

Comment Date: 5 p.m. ET 4/19/24.

Docket Numbers: ER24-1655-000.

Applicants: New York Independent System Operator, Inc.

Description: 205(d) Rate Filing: NYISO 205: Financial Transaction Capabilities and Fast-Start Resource Scheduling to be effective 6/11/2024.

Filed Date: 3/29/24.

Accession Number: 20240329-5288.

Comment Date: 5 p.m. ET 4/19/24.

Docket Numbers: ER24-1656-000.

Applicants: Furry Creek Power Ltd.

Description: Baseline eTariff Filing: Furry Creek Power Ltd. MBR Tariff to be effective 5/29/2024.

Filed Date: 3/29/24.

Accession Number: 20240329-5307.

Comment Date: 5 p.m. ET 4/19/24.

Docket Numbers: ER24-1657-000.

Applicants: McNair Creek Hydro Limited Partnership.

Description: Baseline eTariff Filing: McNair Creek Hydro Limited Partnership MBR Tariff to be effective 5/29/2024.

Filed Date: 3/29/24.

Accession Number: 20240329-5309.

Comment Date: 5 p.m. ET 4/19/24.

Docket Numbers: ER24-1658-000.

Applicants: Southwest Power Pool, Inc.

Description: Baseline eTariff Filing: Submission of Tariff to Establish Markets+ to be effective 12/31/9998.

Filed Date: 3/29/24.

Accession Number: 20240329-5340.

Comment Date: 5 p.m. ET 4/19/24.

Docket Numbers: ER24-1659-000.

Applicants: Crystal Hill Solar, LLC.

Description: Baseline eTariff Filing: Reactive Power Tariff Application to be effective 3/30/2024.

Filed Date: 3/29/24.

Accession Number: 20240329-5343.

Comment Date: 5 p.m. ET 4/19/24.

Take notice that the Commission received the following electric securities filings:

Docket Numbers: ES24-28-000.

Applicants: PacifiCorp.

Description: Application Under Section 204 of the Federal Power Act for Authorization to Issue Securities of PacifiCorp under.

Filed Date: 3/29/24.

Accession Number: 20240329-5284.

Comment Date: 5 p.m. ET 4/19/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 29, 2024.
Debbie-Anne A. Reese,
Acting Secretary.

[FR Doc. 2024-07150 Filed 4-3-24; 8:45 am]

BILLING CODE 6717-01-P